DEPARTMENT OF THE INTERIOR

National Park Service

General Management Plan, Final Environmental Impact Statement, Fort Bowie National Historic Site, AZ

AGENCY: National Park Service, Department of the Interior.

ACTION: Availability of Final Environmental Impact Statement and General Management Plan for Fort Bowie National Historic Site.

SUMMARY: Pursuant to section 102(2)(C) the National Environmental Policy Act of 1969, the National Park Service announces the availability of a Final Environmental Impact Statement and General Management Plan (FEIS/GMP) for Fort Bowie National Historic Site, Arizona.

DATES: The DEIS/GMP was on public review from November 29, 1999 through January 15, 2000. Responses to public comment are addressed in the FEIS/GMP.

ADDRESSES: Copies of the FEIS/GMP are available from the Superintendent Fort Bowie National Historic Site, Dos Cabezas Route, Box 6500, Willcox, Arizona 85643-9737. Public reading copies of the FEIS/GMP will be available for review at the following locations:

Office of the Superintendent, Fort Bowie National Historic Site, Dos Cabezas Route, Box 6500, Willcox, Arizona 85643-9737, Telephone: 520-824-3560

Planning and Environmental Quality, Intermountain Support Office—Denver, National Park Service, P.O. Box 25287, Denver, CO 80225-0287, Telephone: (303) 969-2851

Office of Public Affairs, National Park Service, Department of Interior, 18th and C Streets NW, Washington, D.C. 20240, Telephone: (202) 208-6843

Reading copies are also available online at the park's planning website at http://www.nps.gov/planning/fobo/.

SUPPLEMENTARY INFORMATION: The FEIS/GMP analyzes two alternatives to identify and assess the various management alternatives and related environmental impacts relative to park operations, visitor use and access, natural and cultural management, and general development at the monument. The general management plan would guide the management of the Fort Bowie National Historic Site for the next 12 to 15 years. The National Park Service proposal continues the concept established—the principle of a very low level of development, intended to allow the visitor a “discovery” experience in a place of “historic abandonment.” The No-Action Alternative would maintain visitor services and resource protection at current limited levels throughout the life of the plan.

The FEIS/GMP in particular evaluates the environmental consequences of the proposed action and the other alternatives on visitor experience, cultural resources, long-term health of natural ecosystems, economic contribution to gateway communities, adjacent landowners, and operational efficiency.

FOR FURTHER INFORMATION CONTACT: Superintendent, Fort Bowie National Historic Site, at the above address and telephone number.

Dated: March 2, 2001.
Michael D. Snyder,
Director, Intermountain Region, National Park Service.

[FR Doc. 01-7376 Filed 3-23-01; 8:45 am]

BILLING CODE 4310-70-P